DEPARTMENT OF COMMERCE

National Oceanic and Atmospheric Administration

[I.D. 111500A]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council and the New England Fishery Management Council’s Joint Dogfish Committee will hold a public meeting.

DATES: The meeting will be held on Thursday, December 7, 2000, from 10 a.m. - 5 p.m.

ADDRESSES: The meeting will be held at the Sheraton International Hotel, BWI Airport, 7032 Elm Road, Baltimore, MD; telephone 410-859-3300.

Council Address: Mid-Atlantic Fishery Management Council, Room 2115, 300 S. New Street, Dover, DE 19904. New England Fishery Management Council, 50 Water Street, The Tannery — Mill 2, Newburyport, MA 01950.

FOR FURTHER INFORMATION CONTACT: Daniel T. Furlong, Executive Director, Mid-Atlantic Fishery Management Council; telephone 302-674-2331, ext. 19, or Paul Howard, Executive Director, New England Fishery Management Council; telephone 978-465-0492.

SUPPLEMENTARY INFORMATION: The purpose of this meeting is to develop recommendations to the Mid-Atlantic and New England Fishery Management Councils for management measures for the spiny dogfish fishery for the 2001-2002 fishing year based on recommendations of the Spiny Dogfish Monitoring Committee.

Although non-emergency issues not contained in this notice may come before these Councils for discussion, those issues may not be the subject of formal Council action during this meeting. Council action will be restricted to those issues specifically listed in this notice and any issues arising after publication of this notice that require emergency action under section 305(c) of the Magnuson Stevens Act, provided the public has been notified of the Council’s intent to take final action to address the emergency.

Special Accommodations

This meeting is physically accessible to people with disabilities. Requests for sign language interpretation or other auxiliary aids should be directed to Joanna Davis at 302-674-2331 at least 5 days prior to the meeting date.

Dated: November 15, 2000
Richard W. Surdi,
Acting Director, Office of Sustainable Fisheries, National Marine Fisheries Service.

[FR Doc. 00-29640 Filed 11-17-00; 8:45 am]

BILLING CODE 3510-22-S